DEPARTMENT OF COMMERCE

National Oceanic and Atmospheric Administration

[I.D. 041702D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Advisory Panel and Oversight Committee in May, 2002, to consider actions affecting New England fisheries in the exclusive economic zone (EEZ). Recommendations from these groups will be brought to the full Council for formal consideration and action, if appropriate.

DATES: The meetings will be held between May 13-15, 2002. See SUPPLEMENTARY INFORMATION for specific dates and times.

ADDRESSES: The meetings will be held at the Sheraton Inn Providence Airport, 1850 Post Road, Warwick RI 02886; telephone: (401) 738-4000.

Council address: New England Fishery Management Council, 50 Water Street, Mill 2, Newburyport, MA 01950.

FOR FURTHER INFORMATION CONTACT: Paul J. Howard, Executive Director, New England Fishery Management Council; (978) 465-0492.

SUPPLEMENTARY INFORMATION: Monday, May 13, 2002, at 10 a.m.-Scallop Advisory Panel Meeting.

The Advisory Panel will develop recommendations on Draft Amendment 10 for consideration by the Scallop Oversight Committee. The recommendations may include preferred alternatives and/or amendments to the draft alternatives.

Tuesday, May 14, 2002, at 9 a.m. and Wednesday, May 15, 2002, at 9 a.m.-Scallop Oversight Committee Meeting.

The Oversight Committee will review analyses of potential impacts associated with Draft Amendment 10 alternatives, consider recommendations from the Advisory Committee and choose preferred alternatives for recommendation to the Council. The committee may recommend additional analyses or amendments to the alternatives before the Council approves the documents for public hearing.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: April 24, 2002.
Theophilus R. Brainerd,
Acting Director, Office of Sustainable Fisheries, National Marine Fisheries Service.

[FR Doc. 02-10485 Filed 4-26-02; 8:45 am]

BILLING CODE 3510-22-S